DEPARTMENT OF TRANSPORTATION

National Highway Traffic Safety Administration

49 CFR Part 571

[Docket No. NHTSA-2012-0065]

Public Hearing on Proposed Rule for Heavy Vehicle Electronic Stability Control Systems

AGENCY: National Highway Traffic Safety Administration (NHTSA), Department of Transportation (DOT).

ACTION: Announcement of public hearing.

SUMMARY: On May 23, 2012, NHTSA published a notice of proposed rulemaking (NPRM) to require the installation of electronic stability control (ESC) systems on truck tractors and large buses. NHTSA is announcing a public hearing to provide an opportunity for the public to present oral testimony regarding the proposal. The oral testimony provided at the public hearing will be transcribed and placed in the docket for this rulemaking.

DATES: NHTSA will hold a public hearing on July 24, 2012, at the U.S. Department of Transportation headquarters building in Washington, DC. The hearing will start at 10 a.m. and continue until 1 p.m., local time. If necessary to accommodate a large number of presenters, the hearing may continue beyond 2 p.m. as determined by the presiding official at the hearing. If you would like to present oral testimony at the public hearing, or attend the public hearing as an observer, please contact the person identified under FOR FURTHER INFORMATION CONTACT at least ten days before the hearing. Depending on the available space, registration for persons attending the public hearing as observers may be accepted after that date.

ADDRESSES: The July 24, 2012 public hearing will be held at the U.S. Department of Transportation, West Building Ground Floor, Media Center—Room W11-130, 1200 New Jersey Avenue SE., Washington, DC 20590.¹ The hearing site is accessible to individuals with disabilities.

¹ For electronic mapping and navigation, use the local area zip code of 20003.

FOR FURTHER INFORMATION CONTACT: If you would like to present oral testimony at the public hearing, please contact Christopher Morris, Office of Rulemaking, by email at christopher.morris@dot.gov, telephone at (202) 493-2218, or fax at (202) 366-5930. Please contact Mr. Morris at least ten days before the hearing date of July 24, 2012. Please provide the following information: Name, affiliation, address, email address and telephone number; indicate whether you are a U.S. citizen; and indicate if you require accommodations such as a sign language interpreter or translator. For technical issues regarding the agency's NPRM, you may contact Jeffrey Woods, Office of Crash Avoidance Standards, by telephone at (202) 366-6206, or fax at (202) 366-7002. For legal issues, you may contact David Jasinski, Office of the Chief Counsel, by telephone at (202) 366-2992, or fax at (202) 366-3820. You may send mail to both of these officials at the National Highway Traffic Safety Administration, 1200 New Jersey Avenue SE., Washington, DC 20590. You may learn more about the NPRM by searching the public docket (NHTSA-2012-0065) at www.regulations.gov.

SUPPLEMENTARY INFORMATION: On May 23, 2012, the agency published a notice of proposed rulemaking to establish a new standard, Federal Motor Vehicle Safety Standard No. 136, Electronic Stability Control Systems for Heavy Vehicles (77 FR 30766). The standard would require truck tractors, and certain large buses with a gross vehicle weight rating of greater than 11,793 kilograms (26,000 pounds), to be equipped with an electronic stability control (ESC) system that meets the equipment and performance requirements of the proposed standard. Heavy vehicle ESC systems use engine torque control and computer-controlled braking of individual wheels to assist the driver in maintaining control of the vehicle in situations in which the vehicle is becoming roll unstable (such as excessive speed in a curve) or is experiencing a loss of control (the vehicle deviates from the driver's intended path due to oversteer or understeer).

The five major topics that are discussed in the NPRM include:

• The size of the safety problem related to truck tractor and large bus ESC systems

• How electronic stability control systems work to prevent rollover and loss of control

• The research and testing that were separately conducted by NHTSA and the industry to evaluate the potential safety benefits of ESC and to develop dynamic vehicle test maneuvers to evaluate ESC performance

• The specifics of the agency's proposal, including ESC equipment and performance criteria, vehicle compliance testing requirements, and the implementation schedule

• The benefits and costs of the proposal, as described in the NPRM and in the agency's Preliminary Regulatory Impact Analysis that is included in the docket.

Public Hearing Procedures. The public hearing provides a forum for the public to present oral testimony regarding the agency's proposal for heavy vehicle ESC. For planning purposes, each speaker should anticipate speaking for approximately ten minutes, although we may need to shorten that time if there is a large number of people wishing to make presentations. Once we learn how many people have registered to speak at the hearing, we will allocate an appropriate amount of time to each participant, allowing time for necessary breaks. In addition, we will reserve a block of time for anyone else in the audience who wishes to give an oral presentation.

We request that you bring three copies of your statement or other material to the hearing for the NHTSA panel. To accommodate as many speakers as possible, we prefer that speakers who are using audio-visual aids or computer slideshows either provide those materials in advance of the meeting or make other arrangements to facilitate set-up, by notifying the contact person in the FOR FURTHER INFORMATION CONTACT section above.

NHTSA will conduct the hearing informally. Thus, technical rules of evidence will not apply. We will arrange for a written transcript of the hearing, and you may make arrangements to receive a copy of the transcript directly from the court reporter at the hearing. Presenters wishing to provide supplementary information should submit it to the address given above for written comments by the August 21, 2012 deadline for those comments. There will be a panel of agency officials who may ask clarifying questions during the oral presentations, but the panel will not respond to the presentations at that time. Written statements and supporting information submitted during the comment period will be considered with the same weight as oral comments and supporting information presented at the public hearing.

For security purposes, government-issued photo identification is required to enter the Department of Transportation building. Non-U.S. citizens will be required to show passports. To allow sufficient time to clear security and enter the building, NHTSA recommends that hearing participants arrive 30 to 60 minutes prior to the start of the event.

Written Comments: As announced in the NPRM, to be assured of consideration your written comments on the proposal must be received by August 21, 2012. You may submit comments on the agency's proposal to Docket No. NHTSA-2012-0065, by any of the following methods:

• Federal eRulemaking Portal: Go to http://www.regulations.gov. Follow the online instructions for submitting comments.

• Mail: Docket Management Facility: U.S. Department of Transportation, 1200 New Jersey Avenue SE., Docket Operations M-30, Room W12-140, Washington, DC 20590-0001.

• Hand Delivery or Courier: 1200 New Jersey Avenue SE., Docket Operations M-30, Room W12-140, Washington, DC 20590, between 9 a.m. and 5 p.m. ET, Monday through Friday, except Federal Holidays.

• Fax: 202-493-2251.

Note that all comments will be posted without change to http://www.regulations.gov. Please ensure that your comments include the docket number in the subject line or heading.

Issued: June 26, 2012.
Christopher J. Bonanti,
Associate Administrator for Rulemaking.

[FR Doc. 2012-16174 Filed 6-29-12; 8:45 am]

BILLING CODE 4910-59-P